DEPARTMENT OF ENERGY

Federal Energy Regulatory Commission

Notice of Settlement Agreement and Soliciting Comments

August 12, 2003.

Take notice that the following settlement agreement has been filed with the Commission and is available for public inspection.

a. Type of Application: Settlement Agreement.

b. Project No.: 5334-019.

c. Date Filed: August 7, 2003.

d. Applicant: Charter Township of Ypsilanti, MI.

e. Name of Project: Ford Lake Hydroelectric Project.

f. Location: On the Huron River, Washtenaw County, within the township of Ypsilanti, Michigan. The project does not affect Federal lands.

g. Filed Pursuant to: Rule 602 of the Commission's Rules of Practice and Procedure, 18 CFR 385.602.

h. Applicant Contact: Ms. Joann Brinker, Administrative Services/Human Resources Director, Charter Township of Ypsilanti, 7200 South Huron River Driver, Ypsilanti, Mi 48197, (734) 484-0065.

i. FERC Contact: Monte TerHaar, (202) 502-6035 or monte.terhaar@ferc.gov.

j.Deadline for Filing Comments: The deadline for filing comments on the Settlement Agreement is 20 days from the date of this notice. The deadline for filing reply comments is 30 days from the date of this notice. All documents (original and eight copies) should be filed with: Magalie R. Salas, Secretary, Federal Energy Regulatory Commission, 888 First Street, NE., Washington, DC 20426

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions of the Commission's Web site ( http://www.ferc.gov ) under the “e-filing” link.

k. Charter Township of Ypsilanti filed a partial Settlement Agreement on behalf of itself, the U.S. Department of the Interior, Fish and Wildlife Service, the Michigan Department of Natural Resources, and the Michigan Hydro Relicensing Coalition. The purpose of the Settlement Agreement is to resolve, among the signatories, issues related to the Township's pending Application for a New Major License for the Ford Lake Hydroelectric Project. The Settlement Agreement covers compliance monitoring of impoundment levels and tailrace elevations; maintenance of natural riparian habitat; and establishes an escrow account for future fish protection, fisheries habitat improvement, and, in the event of license surrender, dam decommissioning.

l. A copy of the Settlement Agreement is available for review at the Commission in the Public Reference Room or may be viewed on the Commission's Web site at http://www. ferc.gov, using the eLibrary (FERRIS) link. Enter the docket number, excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Linda Mitry,
Acting Secretary.

[FR Doc. 03-21092 Filed 8-15-03; 8:45 am]

BILLING CODE 6717-01-P